DEPARTMENT OF HOMELAND SECURITY

Federal Emergency Management Agency

44 CFR Part 65

[Docket No. FEMA -B-7446]

Changes in Flood Elevation Determinations

AGENCY: Federal Emergency Management Agency (FEMA), Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act

This rule is categorically excluded from the requirements of 44 CFR Part 10, Environmental Consideration. No environmental impact assessment has been prepared.

Regulatory Flexibility Act

The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive office of community | Effective date of modification | Community No.
Arizona: Maricopa | City of Phoenix (04-09-0654X) | March 18, 2004, March 25, 2004, Arizona Business Cazette | The Honorable Skip Rimsza, Mayor, City of Phoenix, 200 West Washington Street, 11th Floor, Phoenix, Arizona 85003-1611 | June 24, 2004 | 040051
Pima | Town of Marana (04-09-0750P) | March 25, 2004, April 1, 2004, Daily Territorial | The Honorable Bobby Sutton, Jr., Mayor, Town of Marana, 13251 North Lon Adams Road, Marana, Arizona 85653 | April 22, 2004 | 040118
Pima | Town of Marana (03-09-0698P) | March 25, 2004, April 1, 2004, Daily Territorial | The Honorable Bobby Sutton Jr., Mayor, Town of Marana, 13251 North Lon Adams Road, Marana, Arizona 85653 | July 1, 2004 | 040118
Pima | City of Tucson (03-09-1711P) | April 8, 2004, April 15, 2004, Daily Territorial | The Honorable Bob Walkup, Mayor, City of Tucson, City Hall, 255 West Alameda Street, Tucson, Arizon 85701 | July 15, 2004 | 040076
Pima | Unicorporated Areas (03-09-0698P) | March 25, 2004, April 1, 2004, Daily Territorial | The Honorable Sharon Bronson, Chair, Pima County Board of Supervisors, 130 West Congress Street, 11th Floor, Tucson, Arizona 85701 | July 1, 2004 | 040073
California:
Humboldt | City of Arcata (03-09-0824P) | February 10, 2004, February 17, 2004, Arcata Eye | The Honorable Robert Ornelas, Mayor, City of Arcata, 736 F Street, Arcata, California 95521 | May 18, 2004 | 060061
Los Angeles | City of Burbank | February 11, 2004, February 18, 2004, Burbank Leader | The Honorable Stacey Murphy, Mayor, City of Burbank, P.O. Box 6459, Burbank, California 91510-6459 | May 19, 2004 | 065018
Los Angeles | City of Los Angeles (04-09-0102P) | March 11, 2004, March 18, 2004, Los Angeles Times | The Honorable James K. Hahn, Mayor, City of Los Angeles, 200 North Spring Street, Room 303, Los Angeles, California 90012 | June 17, 2004 | 060137
Placer | Unincorporated Areas (03-09-1212P) | February 4, 2004, February 11, 2004, The Rocklin Placer Herald | The Honorable Rex Bloomfield, Chairman, Placer County, Board of Supervisors, 175 Fulweiler Avenue, Auburn, California 95603 | January 8, 2004 | 060239
Riverside | City of Moreno Valley (04-09-0122P) | April 1, 2004, April 8, 2004, Press—Enterprise | The Honorable Frank West, Mayor, City of Moreno Valley, 14177 Frederick Street, Moreno Valley, California 92552 | July 8, 2004 | 065074
San Diego | City of Chula Vista (03-09-0900P) | March 5, 2004, March 12, 2004, Chula Vista Star News | The Honorable Stephen C. Padilla, Mayor, City of Chula Vista, City Hall, 276 Fourth Avenue, Chula Vista, California 91910 | June 11, 2004 | 065021
San Diego | City of Oceanside (04-09-0309P) | April 1, 2004, April 8, 2004, North County Times | The Honorable Terry Johnson, Mayor, City of Oceanside, 300 North Coast Highway, Oceanside, California 92054 | July 8, 2004 | 060294
San Diego | City of San Diego (04-09-0108P) | April 8, 2004, April 15, 2004, San Diego Daily Transcript | The Honorable Dick Murphy, Mayor, City of San Diego, 202 C Street, 11th Floor, San Diego, California 92101 | July 15, 2004 | 060295
San Diego | Unincorporated Areas (03-09-1209P) | April 8, 2004, April 15, 2004, San Diego Union-Tribune | The Honorable Dianne Jacob, Chairwoman, San Diego County Board of Supervisors, 1600 Pacific Highway, San Diego, California 92101 | July 15, 2004 | 060284
Ventura | City of Simi Valley (04-09-0234P) | February 12, 2004, February 19, 2004, Ventura County Star | The Honorable William Davis, Mayor, City of Simi Valley, 2929 Tapo Canyon Road, Simi Valley, California 93063-2199 | January 30, 2004 | 060421
Colorado:
Adams | City of Brighton (03-08-0621P) | February 4, 2004, February 11, 2004, Brighton Standard Blade | The Honorable Jan Pawlowski, Mayor, City of Brighton, 22 South Fourth Avenue, Brighton, Colorado 80601 | May 12, 2004 | 080004
Adams | Unincorporated Areas (03-08-0621P) | February 4, 2004, February 11, 2004, Brighton Standard Blade | The Honorable Elaine T. Valente, Chair, Adams County Board of Commissioners, 450 South Fourth Avenue, Brighton, Colorado 80601 | May 12, 2004 | 08001
Adams | Unincorporated Areas (02-08-398P) | February 6, 2004, February 13, 2004, Eastern Colorado News | The Honorable Elaine T. Valente, Chair, Adams County Board of Commissioners, 450 South Fourth Avenue, Brighton, Colorado 80601 | May 14, 2004 | 08001
Arapahoe | City of Littleton (03-08-0691P) | March 11, 2004, March 18, 2004, Littleton Independent | The Honorable John Ostermiller, Mayor, City of Littleton, 2255 West Berry Avenue, Littleton, Colorado 80165 | March 1, 2004 | 080017
Douglas | Town of Parker (04-08-0033P) | February 19, 2004, February 26, 2004, Douglas County News Press | The Honorable Gary Lasater, Mayor, Town of Parker, 20120 East Mainstreet, Parker, Colorado 80138 | May 27, 2004 | 080310
El Paso | Unincorporated Areas (03-08-0406P) | March 10, 2004, March 17, 2004, El Paso County News | The Honorable Chuck Brown, Chair, El Paso County Board of Commissioners, 27 East Vermijo Avenue, Colorado Springs, Colorado 80903-2208 | June 16, 2004 | 080059
El Paso | Unincorporated Areas (03-08-0449P) | March 17, 2004, March 24, 2004, El Paso County News | The Honorable Chuck Brown, Chair, El Paso County Board of Commissioners, 27 East Vermijo Avenue, Colorado Springs, Colorado 80903-2208 | June 23, 2004 | 080059
El Paso | Unincorporated Areas (03-08-0617P) | March 17, 2004, March 24, 2004, El Paso County News | The Honorable Chuck Brown, Chair, El Paso County Board of Commissioners, 27 East Vermijo Avenue, Colorado Springs, Colorado 80903-2208 | June 23, 2004 | 080059
Jefferson | City of Lakewood (03-08-0305P) | March 25, 2004, April 1, 2004, Lakewood Sentinel | The Honorable Steve Burkholder, Mayor, City of Lakewood, Lakewood Civic Center South, 480 South Allison Parkway, Lakewood, Colorado 80226 | July 1, 2004 | 085075
Jefferson | Unincorporated Areas (03-080479P) | February 25, 2004, March 3, 2004, Evergreen Canyon Courier | The Honorable Michelle Lawrence, Chairperson, Jefferson County Board of Commissioners, 100 Jefferson County Parkway, Golden, Colorado 80419-5550 | June 2, 2004 | 080087
Jefferson | City of Westminster (03-08-0520P) | January 29, 2004, February 5, 2004, Westminster Window | The Honorable Ed Moss, Mayor, City of Westminster, 4800 West 92nd Avenue, Westminster, Colorado 80031 | May 6, 2004 | 080008
Hawaii:
Hawaii | Hawaii County (03-09-1531P) | February 12, 2004, February 19, 2004, Hawaii Tribune Herald | The Honorable Harry Kim, Mayor, Hawaii County, 25 Aupuni Street, Hilo, Hawaii 96720 | January 20, 2004 | 155166
Maui | Maui County (03-09-0438P) | March 25, 2004, April 1, 2004, Maui News | The Honorable Alan M. Arawaka, Mayor, Maui County, 200 South High Street, Wailuku, Hawaii 96793-2155 | July 1, 2004 | 150003
Utah: Sevier | City of Salina (04-08-0072P) | February 25, 2004, March 3, 2004, Richfield Reaper | The Honorable Marilyn S. Anderson, Mayor, City of Salina, P.O. Box 69, Salina, Utah 84654 | June 2, 2004 | 490132
Washington: King | City of Bellevue (03-10-0399P) | February 26, 2004, March 4, 2004, King County Journal | The Honorable Connie Marshall, Mayor, City of Bellevue, P.O. Box 90012, Bellevue, Washington 98009-9012 | June 3, 2004 | 530074

(Catalog of Federal Domestic Assistance No. 83.100, “Flood Insurance.”)
Dated: May 18, 2004.
Anthony S. Lowe,
Mitigation Division Director, Emergency Preparedness and Response Directorate.

[FR Doc. 04-11760 Filed 5-24-04; 8:45 am]

BILLING CODE 9110-11-P